DEPARTMENT OF COMMERCE

International Trade Administration

[A-428-602]

Brass Sheet and Strip From Germany: Final Results of Antidumping Duty Administrative Review and Final Determination of No Shipments; 2014-2015

AGENCY: Enforcement and Compliance, International Trade Administration, Department of Commerce.

SUMMARY: On April 11, 2016, the Department of Commerce (the Department) published the preliminary results of the administrative review of the antidumping duty (AD) order on brass sheet and strip from Germany.¹ The review covers ten producers or exporters of subject merchandise.² We received no comments or requests for a hearing. Therefore, for the final results, we continue to find that three of the producers or exporters for which the Department initiated a review, Schwermetall, ThyssenKrupp, and Wieland, had no shipments during the POR. Further, we find that subject merchandise has been sold at less than normal value by seven of the companies subject to this review.³

¹ See Brass Sheet and Strip from Germany: Preliminary Results of Antidumping Duty Administrative Review and Preliminary Determination of No Shipments; 2014-2015, 81 FR 21312 (April 11, 2016) (Preliminary Results).

² The ten producers or exporters include: Aurubis Stolberg GmbH & Co. KG (Aurubis), Carl Schreiber GmbH (Schreiber), KME Germany AG & Co. KG (KME), Messingwerk Plettenberg Herfeld GmbH & Co. KG (Messingwerk), MKM Mansfelder Kupfer & Messing GmbH (MKM), Schlenk Metallfolien GmbH & Co. KG (Schlenk), Schwermetall Halbzeugwerk GmbH & Co. KG (Schwermetall), Sundwiger Messingwerke GmbH & Co. KG (Sundwiger), ThyssenKrupp VDM GmbH (ThyssenKrupp), and Wieland-Werke AG (Wieland).

³ The seven companies are Aurubis, Schreiber, KME, Messingwerk, MKM, Schlenk, and Sundwiger.

DATES: Effective Date: July 7, 2016.

FOR FURTHER INFORMATION CONTACT: George McMahon or Eric Greynolds, AD/CVD Operations, Office III, Enforcement and Compliance, International Trade Administration, U.S. Department of Commerce, 14th Street and Constitution Avenue NW., Washington, DC 20230; telephone: (202) 482-1167 or (202) 482-6071, respectively.

Background

On April 11, 2016, the Department published the Preliminary Results. The period of review (POR) is March 1, 2014, through February 28, 2015. We invited interested parties to comment on the Preliminary Results. We received no comments from any party. The Department conducted this administrative review in accordance with section 751(a)(2) of the Tariff Act of 1930, as amended (the Act).

Scope of the Order

The scope of the order covers shipments of brass sheet and strip, other than leaded and tinned, from Germany. The chemical composition of the covered products is currently defined in the Copper Development Association (CDA) 200 Series or the Unified Numbering System (UNS) C2000; this review does not cover products the chemical compositions of which are defined by other CDA or UNS series. In physical dimensions, the products covered by this review have a solid rectangular cross section over 0.006 inches (0.15 millimeters) through 0.188 inches (4.8 millimeters) in finished thickness or gauge, regardless of width. Coiled, wound-on-reels (traverse wound), and cut-to-length products are included. The merchandise is currently classified under Harmonized Tariff Schedule of the United States (HTSUS) item numbers 7409.21.00.50, 7409.21.00.75, 7409.21.00.90, 7409.29.00.50, 7409.29.00.75, and 7409.29.0090. Although the HTSUS item numbers are provided for convenience and customs purposes, the written description of the scope of this order remains dispositive.

Final Determination of No Shipments

As noted above, the Department received no comments concerning the Preliminary Results of this segment of the proceeding. As there are no changes from, or comments on, the Preliminary Results, the Department continues to find that Schwermetall, ThyssenKrupp, and Wieland had no shipments of the subject merchandise, and, therefore, no reviewable transactions, during the POR. Further, we find that subject merchandise has been sold at less than normal value by Aurubis, Schreiber, KME, Messingwerk, MKM, Schlenk, and Sundwiger. Accordingly, the preliminary issues and decision memorandum is adopted in toto as the final decision memorandum and no new decision memorandum accompanies this Federal Register notice. For further details of the issues addressed in this proceeding, see the Preliminary Results and the accompanying Preliminary Decision Memorandum.⁴

⁴ See Memorandum to Ronald K. Lorentzen, Acting Assistant Secretary for Enforcement and Compliance, from Gary Taverman, Associate Deputy Assistant Secretary for Antidumping and Countervailing Duty Operations, titled “Decision Memorandum for the Preliminary Results of the Antidumping Duty Administrative Review: Brass Sheet and Strip from Germany; 2014-2015,” dated April 4, 2016 (Preliminary Decision Memorandum). The Preliminary Decision Memorandum can be accessed directly at: http://enforcement.trade.gov/frn/index.html.

Final Results of Review

As a result of this review, the Department determines that the following dumping margins on brass sheet and strip from Germany exist for the period March 1, 2014, through February 28, 2015:

Producer and/or exporter | Margin (percent)
Aurubis Stolberg GmbH & Co. KG | 22.61
Carl Schreiber GmbH | 22.61
KME Germany AG & Co. KG | 22.61
Messingwerk Plettenberg Herfeld GmbH & Co. KG | 55.60
MKM Mansfelder Kupfer & Messing GmbH | 22.61
Schlenk Metallfolien GmbH & Co. KG | 22.61
Sundwiger Messingwerke GmbH & Co. KG | 22.61

Assessment Rates

Upon issuance of the final results of this administrative review, the Department shall determine, and CBP shall assess, antidumping duties on all appropriate entries, in accordance with section 751(a)(2)(C) of the Act and 19 CFR 351.212. The Department intends to issue assessment instructions to CBP 15 days after publication of the final results of this review.

Cash Deposit Requirements

The following cash deposit requirements will be effective upon publication of the notice of final results of administrative review for all shipments of subject merchandise entered, or withdrawn from warehouse, for consumption on or after the publication of the final results of this administrative review, as provided by section 751(a)(2) of the Act: (1) The cash deposit rate for respondents noted above will be the rate established in the final results of this administrative review; (2) for merchandise exported by manufacturers or exporters not covered in this administrative review but covered in a prior segment of the proceeding, the cash deposit rate will continue to be the company specific rate published for the most recently completed segment of this proceeding; (3) if the exporter is not a firm covered in this review, a prior review, or the original investigation, but the manufacturer is, the cash deposit rate will be the rate established for the most recently completed segment of this proceeding for the manufacturer of the subject merchandise; and (4) the cash deposit rate for all other manufacturers or exporters will continue to be 7.30 percent, the all-others rate determined in the less than fair value investigation. These cash deposit requirements, when imposed, shall remain in effect until further notice.

Notification to Importers Regarding the Reimbursement of Duties

This notice also serves as a final reminder to importers of their responsibility under 19 CFR 351.402(f)(2) to file a certificate regarding the reimbursement of antidumping and/or countervailing duties prior to liquidation of the relevant entries during the POR. Failure to comply with this requirement could result in the Department's presumption that reimbursement of antidumping and/or countervailing duties occurred and the subsequent assessment of doubled antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation, which is subject to sanction.

We are issuing and publishing this notice in accordance with sections 751(a)(1) and 777(i)(1) of the Act and 19 CFR 351.213(h).

Dated: June 28, 2016.
Paul Piquado,
Assistant Secretary for Enforcement and Compliance.

[FR Doc. 2016-16137 Filed 7-6-16; 8:45 am]

BILLING CODE 3510-DS-P